DEPARTMENT OF THE INTERIOR

Bureau of Ocean Energy Management, Regulation and Enforcement

[Docket ID: MMS-2010-OMM-0027]

BOEMRE Information Collection Activity: 1010-NEW, Upcoming Projects Considering the Use of Outer Continental Shelf Sand, Gravel, and Shell Resources for Coastal Restoration and/or Beach Nourishment; NEW Collection; Comment Request

AGENCY: Bureau of Ocean Energy Management, Regulation and Enforcement (BOEMRE), Interior.

ACTION: Notice of a new information collection (1010-NEW).

SUMMARY: To comply with the Paperwork Reduction Act of 1995 (PRA), BOEMRE is inviting comments on a collection of information that we will submit to the Office of Management and Budget (OMB) for review and approval. The information collection request (ICR) concerns the paperwork requirements that respondents will submit to BOEMRE to obtain OCS sand, gravel, and shell resources for use in shore protection and beach and coastal restoration, which is considered a noncompetitive negotiated agreement program.

DATES: Submit written comments by November 8, 2010.

FOR FURTHER INFORMATION CONTACT: To obtain information pertaining to this notice, contact: Colleen Finnegan at (703) 787-1275. Marine Minerals Program information and procedures for obtaining sand, gravel, and shell resources can be found on the BOEMRE Web site http://www.boemre.gov/sandandgravel or by contacting the Marine Minerals Program at (703) 787-1215.

ADDRESSES: You may submit comments by either of the following methods listed below.

• Electronically: go to http://www.regulations.gov. In the entry titled “Enter Keyword or ID,” enter docket ID MMS-2010-OMM-0027 then click search. Follow the instructions to submit public comments and view supporting and related materials available for this collection. The BOEMRE will post all comments.

• E-mail cheryl.blundon@boemre.gov. Mail or hand-carry comments to the Department of the Interior; Bureau of Ocean Energy Management, Regulation and Enforcement; Attention: Cheryl Blundon; 381 Elden Street, MS-4024; Herndon, Virginia 20170-4817. Please reference ICR 1010-NEW in your comment and include your name and return address.

SUPPLEMENTARY INFORMATION:

Title: Upcoming Projects Considering the Use of Outer Continental Shelf Sand, Gravel, and Shell Resources for Coastal Restoration and/or Beach Nourishment.

OMB Control Number: 1010-NEW.

Abstract: The BOEMRE, under the authority delegated by the Secretary of the Interior, is authorized pursuant to section 8(k)(2) of the OCS Lands Act (43 U.S.C. 1337(k)(2)) to convey rights to Outer Continental Shelf sand, gravel, and shell resources by noncompetitive negotiated agreement (NNA) for use in shore protection and beach and coastal restoration, or for use in construction projects funded in whole or part by or authorized by the Federal Government.

Background

Since 1995, 22 shore protection or beach and coastal restoration projects have been completed using OCS sand resources. Recently, the program has seen an increase in projects and need for OCS resources due to the decreasing amounts of sand located in state waters. Because of this increase, the BOEMRE needed to develop a mechanism to plan for future projects and anticipated workload. Therefore, the BOEMRE will issue an annual call for information about resources and locations from interested parties to develop an annual NNA Project Schedule. The NNA Project Schedule will help BOEMRE determine appropriate future resource allocation, conduct environmental analyses, develop NNAs, and meet all necessary environmental and legal requirements.

The BOEMRE has developed Proposed NNA Project Schedules for 2012 and 2013, based on information from a general solicitation of interest. This ICR addresses the additional information needed from States, local governments, Federal agencies, environmental and other interest organizations, and all other interested parties to finalize the 2012 and 2013 NNA Project Schedules.

Given staff and funding resources currently available, the BOEMRE has determined it can process a maximum of six marine minerals requests per calendar year off the Atlantic and Florida coasts, two projects off the Gulf of Mexico coast, and two projects off the Pacific Coast. In the event the number of requested projects exceeds these limits, the BOEMRE will request the relevant states to prioritize their own projects based on several criteria including likelihood of project funding and progress of environmental work. After evaluating State responses and BOEMRE resources, BOEMRE plans to publish the Final 2012 NNA Project Schedule in November 2011.

Information Submittal Procedures: The BOEMRE seeks information pertaining to upcoming shore protection and beach and coastal restoration projects that may consider the use of OCS material. The call for information will request interested parties to submit, in writing, a description of their proposed projects for which OCS resources will be used. The description must include the offshore borrow sites if known, the estimated date of construction, a short description of current project funding, and the name of a primary point of contact with that person's mailing address, telephone number, and e-mail address, as well as any additional information concerning the status of the project that would be useful to the BOEMRE. This information may include detailed maps and coordinates of desired sand resources and sites that would be nourished, a description of the environmental documents that have been completed to date concerning any portion of the project, and a description of the status of Federal, State, and/or local permits required for the project.

We will protect information from respondents considered proprietary under the Freedom of Information Act (5 U.S.C. 552) and its implementing regulations (43 CFR part 2). No items of a sensitive nature are collected. Responses are required to obtain or retain benefits.

Frequency: Annually.

Description of Respondents: Potential respondents comprise 9 states and 50 counties.

Estimated Reporting and Recordkeeping Hour Burden: The BOEMRE is requesting approximately 95 annual burden hours. In calculating the burdens, we assumed that respondents perform certain requirements in the normal course of their activities. We consider these to be usual and customary and took that into account in estimating the burden.

Estimated Reporting and Recordkeeping Non-Hour Cost Burden: We have identified no non-hour paperwork cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (202) 208-7744.

Dated: August 30, 2010.
Doug Slitor,
Acting Chief, Office of Offshore Regulatory Programs.

[FR Doc. 2010-22214 Filed 9-3-10; 8:45 am]

BILLING CODE 4310-MR-P